ENVIRONMENTAL PROTECTION AGENCY

[ER-FRL-9005-6]

Environmental Impacts Statements; Notice of Availability

Responsible Agency: Office of Federal Activities, General Information (202) 564-7146 or http://www.epa.gov/compliance/nepa/.

Weekly receipt of Environmental Impact Statements Filed 10/08/2012 Through 10/12/2012 Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA. While this system eliminates the need to submit paper or CD copies to EPA to meet filing requirements, electronic submission does not change requirements for distribution of EISs for public review and comment. To begin using e-NEPA, you must first register with EPA's electronic reporting site— https://cdx.epa.gov/epa_home.asp.

EIS No. 20120326, Draft EIS, USFS, WI, Lakewood Southeast Project, Proposes to Manage Vegetation and Habitat, Lakewood-Laona Ranger District, Chequamegon-Nicolet National Forest, Oconto County, WI, Comment Period Ends: 12/03/2012, Contact: Marilee Houtler 715-276-6333.

EIS No. 20120327, Final EIS, FHWA, CA, Interstate 80/Interstate 680/State Route 12 Interchange Project, Improvements, Solano County, CA, Review Period Ends: 11/19/2012, Contact: Melanie Brent 510-286-5907.

EIS No. 20120328, Draft EIS, FHWA, TN, James White Parkway (State Route 71) Construction, from Chapman Highway to Moody Avenue, Knox County, TN, Comment Period Ends: 12/03/2012, Contact: Theresa Claxton 615-781-5770.

EIS No. 20120329, Draft EIS, FAA, AK, Kodiak Airport Runway Safety Area Improvements, Kodiak, AK, Comment Period Ends: 12/18/2012, Contact: Leslie Grey 907-271-5453.

EIS No. 20120330, Draft EIS, USFS, MT, Flint Foothills Vegetation Management Project, Beaverhead-Deerlodge National Forest, Pintler Ranger District, Granite and Powell Counties, MT, Comment Period Ends: 12/03/2012, Contact: Karen Gallogly 208-756-5103.

EIS No. 20120331, Draft EIS, BLM, OR, West Eugene Wetlands Resource Management Plan, Proposes to Adopt a Resource Management Plan for the BLM-Administered Lands, Lane County, OR, Comment Period Ends: 01/17/2013, Contact: Richard Hardt 541-683-6600.

EIS No. 20120332, Draft EIS, USFS, MT, Jack Rabbit to Big Sky Meadow Village 161 kV Transmission Line Upgrade, Bozeman Ranger District, Gallatin National Forest, Gallatin County, MT, Comment Period Ends: 12/03/2012, Contact: Amy Waring 406-255-1451.

EIS No. 20120333, Final Supplement, USFS, APHIS, 00, Gypsy Moth Management in the United States, A Cooperative Approach—Proposing New Treatment Options, United States, Review Period Ends: 11/19/2012, Contact: Noel Schneeberger 610-557-4121.

The U.S. Department of Agriculture's Forest Service and the Animal Plant Health Inspection Service are joint lead agencies for the above project.

Dated: October 16, 2012.
Cliff Rader,
Director, NEPA Compliance Division, Office of Federal Activities.

[FR Doc. 2012-25829 Filed 10-18-12; 8:45 am]

BILLING CODE 6560-50-P